DEPARTMENT OF THE TREASURY

Office of Foreign Assets Control

31 CFR Part 595

Removal of Terrorism Sanctions Regulations

AGENCY: Office of Foreign Assets Control, Treasury.

ACTION: Final rule.

SUMMARY: The Department of the Treasury's Office of Foreign Assets Control (OFAC) is removing from the Code of Federal Regulations the Terrorism Sanctions Regulations as a result of the termination of the national emergency on which the regulations were based.

DATES: Effective Date: March 10, 2020.

FOR FURTHER INFORMATION CONTACT: OFAC: Assistant Director for Licensing, 202-622-2480; Assistant Director for Regulatory Affairs, 202-622-4855; or Assistant Director for Sanctions Compliance & Evaluation, 202-622-2490.

SUPPLEMENTARY INFORMATION:

Electronic Availability

This document and additional information concerning OFAC are available on OFAC's website (www.treasury.gov/ofac).

Background

On January 23, 1995, the President issued Executive Order 12947, “Prohibiting Transactions With Terrorists Who Threaten To Disrupt the Middle East Peace Process” (E.O. 12947), declaring a national emergency with respect to “grave acts of violence committed by foreign terrorists that disrupt the Middle East peace process,” and invoking the authority, inter alia, of the International Emergency Economic Powers Act (50 U.S.C. 1701-1706). In E.O. 12947, the President blocked all property and interests in property of (1) persons listed in the Annex to E.O. 12947; (2) foreign persons designated by the Secretary of State, in coordination with the Secretary of the Treasury and the Attorney General, because they are found (a) to have committed, or to pose a significant risk of committing, acts of violence that have the purpose or effect of disrupting the Middle East peace process, or (b) to assist in, sponsor, or provide financial, material, or technological support for, or services in support of, such acts of violence; and (3) persons determined by the Secretary of the Treasury, in coordination with the Secretary of State and the Attorney General, to be owned or controlled by, or to act for or on behalf of, any of the foregoing persons.

On February 2, 1996, OFAC issued the Terrorism Sanctions Regulations, 31 CFR part 595 (the “Regulations”), as a final rule to implement E.O. 12947. The Regulations were amended on several occasions.

On August 20, 1998, the President issued Executive Order 13099, “Prohibiting Transactions With Terrorists Who Threaten To Disrupt the Middle East Peace Process” (E.O. 13099), amending the Annex to E.O. 12947 in order to take additional steps with respect to the national emergency declared in E.O. 12947. On February 16, 2005, the President issued Executive Order 13372, “Clarification of Certain Executive Orders Blocking Property and Prohibiting Certain Transactions,” further amending E.O. 12947 in order to clarify steps taken in E.O. 12947 as amended by E.O. 13099.

On September 9, 2019, the President issued Executive Order 13886, “Modernizing Sanctions To Combat Terrorism” (E.O. 13886). In E.O. 13886, the President found that it was necessary to consolidate and enhance sanctions to combat acts of terrorism and threats of terrorism by foreign terrorists. Accordingly, he terminated the national emergency declared in E.O. 12947, as amended, and revoked that order.

As a result, OFAC is removing the Regulations from the Code of Federal Regulations. Pursuant to section 202 of the National Emergencies Act (50 U.S.C. 1622), termination of the national emergency declared in E.O. 12947, as amended, shall not affect any action taken or proceeding pending and not finally concluded or determined as of 12:01 a.m. eastern daylight time on September 10, 2019 (the effective date of E.O. 13886), any action or proceeding based on any act committed prior to the effective date, or any rights or duties that matured or penalties that were incurred prior to the effective date.

Public Participation

Because the Regulations involve a foreign affairs function, the provisions of Executive Order 12866 and the Administrative Procedure Act (5 U.S.C. 553) requiring notice of proposed rulemaking, opportunity for public participation, and delay in effective date, as well as the provisions of Executive Order 13771, are inapplicable. Because no notice of proposed rulemaking is required for this rule, the Regulatory Flexibility Act (5 U.S.C. 601-612) does not apply.

Paperwork Reduction Act

The Paperwork Reduction Act does not apply because this rule does not impose information collection requirements that would require the approval of the Office of Management and Budget under 44 U.S.C. 3501 et seq.

List of Subjects in 31 CFR Part 595

Administrative practice and procedure, Banks, Banking and finance, Blocking of assets, Fines and penalties, Reporting and recordkeeping requirements, Specially designated terrorists, Terrorism, Transfer of assets.

PART 595—[REMOVED]

For the reasons set forth in the preamble, and under the authority of 3 U.S.C. 301; 31 U.S.C. 321(b); 50 U.S.C. 1601-1651, 1701-1706; Public Law 101-410, 104 Stat. 890 (28 U.S.C. 2461 note); Public Law 110-96, 121 Stat.1011; E.O. 12947, 60 FR 5079, 3 CFR, 1995 Comp., p. 319; E.O. 13099, 63 FR 45167, 3 CFR, 1998 Comp., p. 208; E.O. 13372, 70 FR 8499, 3 CFR, 2006 Comp., p. 159; and E.O. 13886, 84 FR 48041 (September 12, 2019), OFAC amends 31 CFR chapter V by removing part 595.

Dated: March 5, 2020.
Andrea Gacki,
Director, Office of Foreign Assets Control.

[FR Doc. 2020-04851 Filed 3-9-20; 8:45 am]

BILLING CODE 4810-AL-P